DEPARTMENT OF HEALTH AND HUMAN SERVICES

Administration for Children and Families

Proposed Information Collection Activity; Refugee Support Services (RSS) and RSS Set Aside Sub-Agency List (Office of Management and Budget # 0970—0556)

AGENCY: Office of Refugee Resettlement, Administration for Children and Families, U.S. Department of Health and Human Services.

ACTION: Request for public comments.

SUMMARY: The Administration for Children and Families (ACF) Office of Refugee Resettlement (ORR) is requesting a 3-year extension of the Refugee Support Services (RSS) and RSS Set Aside Sub-Agency List (Office of Management and Budget # 0970-0556). ORR is not proposing any changes to the form.

DATES: Comments due within 60 days of publication. In compliance with the requirements of the Paperwork Reduction Act of 1995, ACF is soliciting public comment on the specific aspects of the information collection described above.

ADDRESSES: Copies of the proposed collection of information can be obtained and comments may be forwarded by emailing infocollection@acf.hhs.gov. Identify all requests by the title of the information collection.

SUPPLEMENTARY INFORMATION:

Description: The RSS and RSS Set Aside Sub-Agency List requests grantees to provide the agency name, city, state, website, and funding amount for each contracted sub-grantee.

The information will be used for national resource mapping pertaining to ORR RSS funding at the local level. Improved communication and the knowledge of all local providers is important to ORR's overall oversight of the program. In addition to RSS formula funding to states and state replacement agencies who then issue sub-awards to local providers, ORR also awards discretionary grants that directly fund local refugee service providers. This report will continue to provide ORR a complete picture of the availability all ORR resources to assist newly arrived refugees at the local level increasing our ability to identify gaps or target areas of need.

Respondents: State agencies and replacement designees under 45 CFR 400.301(c) administering or supervising the administration of programs.

Annual Burden Estimates
Instrument | Total number of respondents | Annual number of responses per respondent | Average burden hours rer response | Annual burden hours
RSS and RSS Set Aside Sub-grantee List | 59 | 1 | 2 | 118

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Refugee Act of 1980 [Immigration and Nationality Act, title IV, chapter 2 section 412(e)] and 45 CFR 400.28.

Mary C. Jones,
ACF/OPRE Certifying Officer.

[FR Doc. 2024-08538 Filed 4-19-24; 8:45 am]

BILLING CODE 4184-45-P